DEPARTMENT OF COMMERCE

International Trade Administration

[A-423-808, A-791-805, A-583-830, C-791-806]

Stainless Steel Plate in Coils From Belgium, South Africa, and Taiwan: Continuation of Antidumping Duty Orders and Countervailing Duty Order

AGENCY: Enforcement and Compliance, International Trade Administration, Department of Commerce.

SUMMARY: As a result of the determinations by the U.S. Department of Commerce (Commerce) and the U.S. International Trade Commission (ITC) that revocation of the antidumping duty (AD) orders on stainless steel plate in coils (SSPC) from Belgium, South Africa, and Taiwan, and the countervailing duty (CVD) order on SSPC from South Africa would likely lead to a continuation or recurrence of dumping, net countervailable subsidies, and material injury to an industry in the United States, Commerce is publishing a notice of continuation of the AD orders and the CVD order.

DATES: Applicable August 4, 2022.

FOR FURTHER INFORMATION CONTACT: George McMahon or Carolyn Adie, AD/CVD Operations, Office VI, Enforcement and Compliance, International Trade Administration, U.S. Department of Commerce, 1401 Constitution Avenue NW, Washington, DC 20230; telephone: (202) 482-1167 or (202) 482-6250, respectively.

SUPPLEMENTARY INFORMATION:

Background

On May 11, 1999, Commerce published the CVD Order on SSPC from South Africa.¹ On May 21, 1999, Commerce published the AD Orders on SSPC from Belgium, South Africa, and Taiwan.² On December 1, 2021, pursuant to section 751(c) of the Tariff Act of 1930, as amended (the Act), Commerce published the initiation of the fourth sunset reviews of the Orders and the ITC instituted its review of the Orders.³ As a result of its reviews, Commerce determined that that revocation of the AD Orders would likely lead to a continuation or recurrence of dumping and that revocation of the CVD Order would likely lead to the continuation or recurrence of countervailable subsidies. Commerce, therefore, notified the ITC of the magnitude of the margins and net countervailable subsidy rates likely to prevail should the Orders be revoked.⁴

¹ See Notice of Amended Final Determinations: Stainless Steel Plate in Coils from Belgium and South Africa; and Notice of Countervailing Duty Orders: Stainless Steel Plate in Coils from Belgium, Italy and South Africa, 64 FR 25288 (May 11, 1999) (CVD Order).

² See Antidumping Duty Orders; Certain Stainless Steel Plate in Coils from Belgium, Canada, Italy, the Republic of Korea, South Africa, and Taiwan, 64 FR 27756 (May 21, 1999), amended by Notice of Amended Antidumping Duty Orders; Certain Stainless Steel Plate in Coils from Belgium, Canada, Italy, the Republic of Korea, South Africa, and Taiwan, 68 FR 11520 (March 11, 2003), corrected by Notice of Amended Antidumping Duty Orders; Certain Stainless Steel Plate in Coils from Belgium, Canada, Italy, the Republic of Korea, South Africa, and Taiwan, 68 FR 16117 (April 2, 2003), corrected by Notice of Correction to the Amended Antidumping Duty Orders; Certain Stainless Steel Plate in Coils from Belgium, Canada, Italy, the Republic of Korea, South Africa, and Taiwan, 68 FR 20114 (April 24, 2003) (AD Orders; collectively with the CVD Order, the Orders).

³ See Initiation of Five-Year (Sunset) Reviews, 86 FR 68220 (December 1, 2021); and Stainless Steel Plate from Belgium, South Africa, and Taiwan; Institution of Five-Year Reviews, 86 FR 68278 (December 1, 2021).

⁴ See Stainless Steel Plate in Coils from Belgium, South Africa, and Taiwan: Final Results of the Expedited Fourth Sunset Reviews of the Antidumping Duty Orders, 87 FR 19485 (April 4, 2022), and accompanying Issues and Decision Memorandum (IDM); see also Stainless Steel Plate in Coils from South Africa: Final Results of the Expedited Fourth Five-Year Sunset Review of the Countervailing Duty Order; 87 FR 16457 (March 23, 2022), and accompanying IDM.

On July 25, 2022, the ITC published its determination, pursuant to section 751(c) of the Act, that revocation of the Orders would likely lead to a continuation or recurrence of material injury to an industry in the United States within a reasonably foreseeable time.⁵

⁵ See Stainless Steel Plate in Coils from Belgium, South Africa, and Taiwan (Fourth Review), 87 FR 44150 (July 25, 2022); (Investigation Nos. 701-TA-379 and 731-TA-788, 792, and 793).

Scope of the Orders

The product covered by these Orders is certain stainless steel plate in coils. Stainless steel is alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these Orders are the following: (1) plate not in coils, (2) plate that is not annealed or otherwise heat treated and pickled or otherwise descaled, (3) sheet and strip, and (4) flat bars. The merchandise subject to these Orders is currently classifiable in the Harmonized Tariff Schedule of the United States (HTSUS) at subheadings: 7219.11.00.30, 7219.11.00.60, 7219.12.00.02, 7219.12.00.05, 7219.12.00.06, 7219.12.00.20, 7219.12.00.21, 7219.12.00.25, 7219.12.00.26, 7219.12.00.50, 7219.12.00.51, 7219.12.00.55, 7219.12.00.56, 7219.12.00.65, 7219.12.00.66, 7219.12.00.70, 7219.12.00.71, 7219.12.00.80, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, and 7220.90.00.60.

Although the HTSUS subheadings are provided for convenience and customs purposes, the written description of the merchandise subject to these Orders is dispositive.

Continuation of the Orders

As a result of the determinations by Commerce and the ITC that revocation of the Orders would likely lead to a continuation or recurrence of dumping, countervailable subsidies, and material injury to an industry in the United States, pursuant to section 751(d)(2) of the Act, Commerce hereby orders the continuation of the Orders on SSPC from Belgium, South Africa, and Taiwan. U.S. Customs and Border Protection will continue to collect AD and CVD cash deposits at the rates in effect at the time of entry for all imports of subject merchandise.

The effective date of the continuation of the Orders will be the date of publication in the Federal Register of this notice of continuation. Pursuant to section 751(c)(2) of the Act, Commerce intends to initiate the next five-year (sunset) reviews of the Orders not later than 30 days prior to the fifth anniversary of the effective date of continuation.

Administrative Protective Order (APO)

This notice also serves as the only reminder to parties subject to APO of their responsibility concerning the return, destruction, or conversion to judicial protective order of proprietary information disclosed under APO in accordance with 19 CFR 351.305(a)(3). Failure to comply is a violation of the APO which may be subject to sanctions.

Notification to Interested Parties

These five-year sunset reviews and this notice are in accordance with section 751(c) of the Act and published pursuant to section 777(i)(1) of the Act.

Dated: July 28, 2022.
Lisa W. Wang,
Assistant Secretary for Enforcement and Compliance.

[FR Doc. 2022-16642 Filed 8-3-22; 8:45 am]

BILLING CODE 3510-DS-P